ENVIRONMENTAL PROTECTION AGENCY

[ER-FRL-8587-3]

Environmental Impact Statements; Notice of Availability

Responsible Agency: Office of Federal Activities, General Information (202) 564-1399 or http://www.epa.gov/compliance/nepa/.

Weekly receipt of Environmental Impact Statements

Filed 10/27/2008 Through 10/31/2008

Pursuant to 40 CFR 1506.9

EIS No. 20080440, Second Draft Supplement, COE, CA, Hamilton Wetland Restoration Project, Dredged Material Aquatic Transfer Facility, Implementation, Marin County, CA, Comment Period Ends: 12/22/2008, Contact: Cynthia Jo Fowler 415-503-6870.

EIS No. 20080441, Draft EIS, FHW, OR, Sellwood Bridge Project, Rehabilitate or Replace the Bridge Crosses the Willamette River on Southeast Tacoma Street and Oregon State Highway 43, Funding, Multnomah County, OR, Comment Period Ends: 12/22/2008, Contact: Jeffrey Graham 503-587-4727.

EIS No. 20080442, Draft Supplement, AFS, CO, White River National Forest Travel Management Plan, Updated Information for the Preferred Alternative, To Accommodate and Balance Transportation Needs, Implementation, Eagle, Garfield, Gunnison, Mesa, Moffat, Pitkin, Rio Blanco, Routt and Summit Counties, CO, Comment Period Ends: 01/06/2009, Contact: Wendy Haskins 970-945-3303.

EIS No. 20080443, Final Supplement, BLM, MT, Montana Statewide Oil and Gas, Development Alternative for Coal Bed Natural Gas Production and Amendment of the Powder River and Billings Resource Management Plans, Additional Information Three New Alternatives, Implementation, U.S. Army COE Section 404 Permit, NPDES Permit, Several Cos, MT, Wait Period Ends:12/08/2008, Contact: Mary Bloom 406-233-2852.

EIS No. 20080444, Final EIS, NPS, HI, PROGRAMMATIC EIS—Ala Kahakai National Historic Trail Comprehensive Management Plan, To Provide Long-Term Direction for Natural and Cultural Resource, Island of Hawaii, HI, Wait Period Ends: 12/08/2008, Contact: Aric Arakaki 808-326-6012.

EIS No. 20080445, Draft EIS, FTA, CA, Berkeley/Albany Ferry Terminal Study, Proposing to Implement New Ferry Service between Berkeley/Albany and the San Francisco Ferry Building, Funding, San Francisco Water Transit Authority (WETA), Berkeley/Albany, CA, Comment Period Ends: 12/31/2008, Contact: Ray Sukys 415-744-3133.

EIS No. 20080446, Final EIS, BLM, CA, Mountain View IV Wind Energy Project, Construction and Operation, Wind Turbine Generators on Public Lands in Section 22 and 28 and Private Land Section 27, Right-of-Way Grant and Conditional Use Permit in the City of Palm Springs, CA, Wait Period Ends: 12/08/2008, Contact: Greg Hill 760-251-4848.

EIS No. 20080447, Draft EIS, AFS, WI, Camp Four Vegetation Project, Proposes Vegetation and Road Management Activities, Desired Future Condition (DFC), Medford-Park Falls Ranger District, Chequamegon-Nicolet National Forest, Price County, WI, Comment Period Ends: 12/22/2008, Contact: Ann Hoefferle 715-758-4875 Ext 24.

EIS No. 20080448, Draft EIS, NPS, AZ, Fire Management Plan, Management of Wildland and Prescribed Fire, Protection of Human Life and Property Restoration and Maintenance of Fire Dependent Ecosystems, and Reduction of Hazardous Fuels, Grand Canyon National Park, Coconino County, AZ, Comment Period Ends: 12/22/2008, Contact: Chris Marks 986-606-1050.

EIS No. 20080449, Final EIS, AFS, CA, Sugarberry Project, Proposes to Protect Rural Communities from Fire Hazards by Constructing Fuel Breaks Known as Defensible Fuel Profile Zones (DFPZs), Feather River Ranger District, Plumas National Forest, Plumas, Sierra, Yuba Counties, CA, Wait Period Ends: 12/08/2008, Contact: Sharen Parker 530-534-6500.

EIS No. 20080450, Final EIS, NOA, 00, Amendment 16 to the Fishery Management Plan for the Snapper Grouper Fishery, Additional Information to Analyze Four New Management Measures Alternatives for Gag and Vermillion Snapper, Implementation, South Atlantic Region, Wait Period Ends: 12/08/2008, Contact: Roy E. Crabtree 727-824-5305.

EIS No. 20080451, Draft EIS, COE, CA, University of California (UC) Merced Campus and University Community Project, Development of a Major Research University, To Allow for the Discharge of Fill Material into 76.7 Acres of Wetlands, U.S. Army COE Section 404 Permit, Merced County, CA, Comment Period Ends: 01/05/2009, Contact: Nancy Haley 916-557-7731.

EIS No. 20080452, Final EIS, GSA, DC, Department of Homeland Security Headquarters at the St. Elizabeths West Campus, To Consolidate Federal Office Space on a Secure Site, Washington, DC, Wait Period Ends: 12/08/2008, Contact: Denise Decker 202-538-5643.

EIS No. 20080453, Final EIS, FTA, 00, Access to the Region's Core Project, Additional Information on the Build Alternative, To Increase Trans-Hudson Commuter Rail Capacity, Improve System Safety and Reliability between Secaucus Junction Station in NJ and midtown Manhattan, Funding, Hudson County, NJ, and New York County, NY, Wait Period Ends: 12/08/2008, Contact: Donald Burns 212-668-2182.

EIS No. 20080454, Final EIS, OSM, 00, Black Mesa Project, Revisions to the Life-of-Mine Operation and Reclamation for the Kayenta and Black Mesa Surface-Coal Mining Operations, Right-of-Way Grant, Mohave, Navajo, Coconino and Yavapai Counties, AZ, and Clark County, NV, Wait Period Ends: 12/08/2008, Contact: Dennis Winterringer 303-293-5030.

Amended Notices

EIS No. 20080296, Final EIS, FHW, TX, Grand Parkway (State Highway 99) Selected the Preferred Alternative Alignment, Segment F-2 from SH 249 to IH 45, Right-of-Way Permit and U.S. Army COE Section 404 Permit, Harris County, TX, Wait Period Ends: 11/26/2008, Contact: Justin Ham 512-536-5963. Revision to FR Notice Published 08/08/2008. Extending Wait Period from 11/07/2008 to 11/26/2008.

EIS No. 20080333, Draft EIS, IBR, CO, Windy Gap Firming Project, Construct a New Water Storage Reservoir To Deliver Water to Front Range and West Slope Communities and Industries, Funding, NPDES and U.S. Army COE Section 404 Permit, Grand and Larimer Counties, CO, Comment Period Ends: 12/29/2008, Contact: Will Tully 970-962-4368. Revision to FR Notice Published 08/29/2008: Extending Comment Period 10/28/2008 to 12/29/2008.

EIS No. 20080416, Final EIS, BLM, OR, Western Oregon Bureau of Land Management Districts of Salem, Eugene, Roseburg, Coos Bay, and Medford Districts, and the Klamath Falls Resource Area of the Lakeview District, Revision of the Resource Management Plans, Implementation, OR, Wait Period Ends: 11/17/2008, Contact: Jerry Hubbard 503-808-6115. Revision of FR Notice Published 10/17/2008: Correction to Wait Period from 12/01/2008 to 11/17/2008.

Dated: November 4, 2008.
Robert W. Hargrove,
Director, NEPA Compliance Division, Office of Federal Activities.

[FR Doc. E8-26605 Filed 11-6-08; 8:45 am]

BILLING CODE 6560-50-P